NUCLEAR REGULATORY COMMISSION

10 CFR Part 72

[NRC-2019-0250]

RIN 3150-AK41

List of Approved Spent Fuel Storage Casks: Holtec International HI-STORM Flood/Wind Multipurpose Canister Storage System, Certificate of Compliance No. 1032, Amendment No. 4

AGENCY: Nuclear Regulatory Commission.

ACTION: Direct final rule; confirmation of effective date.

SUMMARY: The U.S. Nuclear Regulatory Commission (NRC) is confirming the effective date of July 14, 2020, for the direct final rule that was published in the Federal Register on April 30, 2020. The direct final rule amends the NRC's spent fuel storage regulations by revising the Holtec International HI-STORM Flood/Wind Multipurpose Canister Storage System listing within the “List of approved spent fuel storage casks” to include Amendment No. 4 to Certificate of Compliance No. 1032. Amendment No. 4 revises the certificate of compliance to: Add multipurpose canister (MPC)-32ML for storage and allow the fuel assembly class 16X16D as content for MPC-32ML; add the fuel assembly class 16X16E as content for MPC-37; and make changes to the final safety analysis report.

DATES: The effective date of July 14, 2020, for the direct final rule published April 30, 2020 (85 FR 23904), is confirmed.

DATES: Please refer to Docket ID NRC-2019-0250 when contacting the NRC about the availability of information for this action. You may obtain publicly-available information related to this action by any of the following methods:

• Federal Rulemaking Website: Go to https://www.regulations.gov and search for Docket ID NRC-2019-0250. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate of compliance, the proposed changes to the technical specifications, and the preliminary safety evaluation report are available in ADAMS under Accession No. ML19158A271. The final amendment to the certificate of compliance, final changes to the technical specifications, and final safety evaluation report can also be viewed in ADAMS under Accession No. ML20155K740.

• Attention: The Public Document Room (PDR), where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Vanessa Cox, Office of Nuclear Material Safety and Safeguards, U.S. Nuclear Regulatory Commission, Washington, DC 20555-0001; telephone: 301-415-8342 or email: Vanessa.Cox@nrc.gov.

SUPPLEMENTARY INFORMATION: On April 30, 2020 (85 FR 23904), the NRC published a direct final rule amending its regulations in part 72 of title 10 of the Code of Federal Regulations to revise the Holtec International HI-STORM Flood/Wind Multipurpose Canister Storage System listing within the “List of approved spent fuel storage casks” to include Amendment No. 4 to Certificate of Compliance No. 1032. Amendment No. 4 revises the certificate of compliance to: add multipurpose canister (MPC)-32ML for storage and allow the fuel assembly class 16X16D as content for MPC-32ML; add the fuel assembly class 16X16E as content for MPC-37; and make changes to the final safety analysis report to separate the design pressure for the short-term operation from the off-normal condition (to provide clarity in Table 2.2.1), add cautionary notes to Sections 9.2.1 and 9.2.3, update a definition, and replace a test program.

In the direct final rule published on April 30, 2020, the NRC stated that if no significant adverse comments were received, the direct final rule would become effective on July 14, 2020. The NRC received and docketed one comment on the companion proposed rule (85 FR 23923; April 30, 2020). The comment can be obtained from the Federal Rulemaking website https://www.regulations.gov under Docket ID NRC-2019-0250, and from ADAMS under Accession No. ML20154K577.

The NRC evaluated the comment against the criteria described in the direct final rule and determined that the comment was not significant and adverse. Specifically, the comment was outside the scope of this rulemaking, did not oppose the rule, or did not propose a change to the rule, such that the rule would be ineffective or unacceptable without incorporation of the change. Therefore, the direct final rule will become effective as scheduled.

Dated June 25, 2020.
For the Nuclear Regulatory Commission.
Cindy K. Bladey,
Chief, Regulatory Analysis and Rulemaking Support Branch, Division of Rulemaking, Environmental, and Financial Support, Office of Nuclear Material Safety and Safeguards.

[FR Doc. 2020-14076 Filed 7-16-20; 8:45 am]

BILLING CODE 7590-01-P